DEPARTMENT OF COMMERCE

International Trade Administration

[A-421-811]

Purified Carboxymethylcellulose From the Netherlands: Preliminary Results of Antidumping Duty Administrative Review and Preliminary No Shipment Determination; 2011-2012

AGENCY: Import Administration, International Trade Administration, Department of Commerce.

SUMMARY: The Department of Commerce (the Department) is conducting an administrative review of the antidumping duty order on purified carboxymethylcellulose (purified CMC) from the Netherlands. The period of review (POR) is July 1, 2011, through June 30, 2012. The review covers two producers/exporters of the subject merchandise, Akzo Nobel Functional Chemicals, B.V. (Akzo Nobel) and CP Kelco, B.V. (CP Kelco).

We preliminarily determine that sales of subject merchandise by Akzo Nobel were made at less than normal value and CP Kelco had no shipments of subject merchandise during the POR.

DATES: Effective Date: August 9, 2013.

FOR FURTHER INFORMATION CONTACT: John Drury or Angelica Mendoza, AD/CVD Operations, Office 7, Import Administration, International Trade Administration, U.S. Department of Commerce, 14th Street and Constitution Avenue NW., Washington, DC 20230; telephone: (202) 482-0195 or (202) 482-3019, respectively.

SUPPLEMENTARY INFORMATION:

Scope of the Order

The merchandise covered by the order is all purified CMC. The merchandise subject to the order is currently classified in the Harmonized Tariff Schedule of the United States at subheading 3912.31.00. This tariff classification is provided for convenience and Customs purposes; however, the written description of the scope of the order is dispositive. A full description of the scope of the order is contained in the memorandum from Christian Marsh, Deputy Assistant Secretary for Antidumping and Countervailing Duty Operations, to Paul Piquado, Assistant Secretary for Import Administration, titled “Decision Memorandum for Preliminary Results of Antidumping Duty Administrative Review: Purified Carboxymethylcellulose from the Netherlands” (Preliminary Decision Memorandum), which is issued concurrent with and hereby adopted by this notice.

The Preliminary Decision Memorandum is a public document and is on file electronically via Import Administration's Antidumping and Countervailing Duty Centralized Electronic Service System (IA ACCESS). Access to IA ACCESS is available to registered users at http://iaaccess.trade.gov and is available to all parties in the Central Records Unit, Room 7046 of the main Department of Commerce building. In addition, a complete version of the Preliminary Decision Memorandum can be accessed directly on the Internet at http://www.trade.gov/ia/frn/index.html. The signed Preliminary Decision Memorandum and the electronic versions of the Preliminary Decision Memorandum are identical in content.

Methodology

The Department has conducted this review in accordance with section 751(a)(2) of the Tariff Act of 1930, as amended (the Act). Constructed export price (CEP) is calculated in accordance with section 772 of the Act. Normal value is calculated in accordance with section 773 of the Act. In accordance with section 773(b) of the Act, we disregarded certain sales made by Akzo Nobel in the home market which were made at below-cost prices. To determine the appropriate comparison method, the Department applied a “differential pricing” analysis and has preliminarily determined to apply the average-to-transaction method to the portion of U.S. sales which passed the Cohen's d test and the average-to-average method to the remaining portion of U.S. sales which did not pass the Cohen's d test in order to calculate Akzo Nobel's weighted-average dumping margin. For a full description of the methodology underlying our conclusions, see the Preliminary Decision Memorandum.

Preliminary Determination of No Shipments

The Department received a timely submission from CP Kelco reporting to the Department that it did not sell or export the subject merchandise to the United States during the POR.¹ On April 19, 2013, we transmitted a “No-Shipment Inquiry” to U.S. Customs and Border Protection (CBP) regarding this company. Pursuant to this inquiry, the Department received no notification from CBP of entries of subject merchandise from CP Kelco within the ten-day deadline.² Accordingly, based on record evidence, we preliminarily determine that CP Kelco had no shipments during the POR.

¹ See Letter from CP Kelco to the Secretary of Commerce, entitled “Purified Carboxymethylcellulose from the Netherlands: CP Kelco BV No Shipment Letter,” dated November 13, 2012.

² See Memorandum to the File regarding No Shipments Inquiry for CP Kelco B.V., dated July 18, 2013.

Consistent with our practice, the Department finds that it is not appropriate to rescind the review with respect to CP Kelco, but rather to complete the review with respect to CP Kelco and issue appropriate instructions to CBP based on the final results of this review.

Preliminary Results of Review

We preliminarily determine that, for the period July 1, 2011, through June 30, 2012, the following dumping margin exists:

Manufacturer/Exporter | Weighted-average margin (percent)
Akzo Nobel Functional Chemicals B.V. | 0.64

Disclosure and Public Comment

The Department will disclose to parties to the proceeding any calculations performed in connection with these preliminary results within five days after the date of publication of this notice.³ Interested parties may submit case briefs to the Department in response to these preliminary results no later than 30 days after the publication of these preliminary results.⁴ Rebuttal briefs, the content of which is limited to the issues raised in the case briefs, must be filed within five days from the deadline date for the submission of case briefs.⁵

³ See 19 CFR 351.224(b)

⁴ See 19 CFR 351.309(c)(1)(ii).

⁵ See 19 CFR 351.309(d)(1) and (2).

Parties who submit arguments in this proceeding are requested to submit with each argument: (1) A statement of the issue; (2) a brief summary of the argument; and (3) a table of authorities.⁶ Case and rebuttal briefs should be filed using IA ACCESS.⁷ Case and rebuttal briefs must be served on interested parties.⁸ Executive summaries should be limited to five pages total, including footnotes.

⁶ See 19 CFR 351.309(c)(2).

⁷ See generally 19 CFR 351.303.

⁸ See 19 CFR 351.303(f).

Within 30 days of the date of publication of this notice, interested parties may request a public hearing on arguments raised in the case and rebuttal briefs.⁹ Unless the Department specifies otherwise, the hearing, if requested, will be held two days after the date for submission of rebuttal briefs.¹⁰ Written argument and hearings requests should be electronically submitted to the Department via IA ACCESS.¹¹ The Department's electronic records system, IA ACCESS, must successfully receive an electronically-filed document in its entirety by 5:00 p.m. Eastern Daylight Time within 30 days after the date of publication of this notice.¹² Requests should contain: (1) The party's name, address, and telephone number; (2) the number of participants; and (3) a list of issues to be discussed. Issues raised in the hearing will be limited to those raised in the respective case briefs. Parties will be notified of the time and location of the hearing.

⁹ See 19 CFR 351.310(c).

¹⁰ See 19 CFR 351.310(d)(1).

¹¹ See generally 19 CFR 351.303.

¹² See 19 CFR 351.310(c).

The Department intends to publish the final results of this administrative review, including the results of its analysis of issues addressed in any case or rebuttal brief, no later than 120 days after publication of the preliminary results, unless extended.¹³

¹³ See section 751(a)(3)(A) of the Act; 19 CFR 351.213(h).

Assessment Rates

Upon completion of this administrative review, the Department shall determine, and CBP shall assess, antidumping duties on all appropriate entries.¹⁴ We have calculated, whenever possible, an exporter/importer (or customer)-specific assessment rate or value for merchandise subject to this review as described below.

¹⁴ See 19 CFR 351.212(b)(1)

For CEP sales, we divide the total dumping margins for the reviewed sales by the total entered value of those reviewed sales for each importer. We will direct CBP to assess the resulting percentage margin against the entered customs values for the subject merchandise on each of that importer's POR entries.¹⁵

¹⁵ See 19 CFR 351.212(b).

The Department clarified its “automatic assessment” regulation on May 6, 2003.¹⁶ This clarification will apply to entries of subject merchandise during the POR produced by Akzo Nobel and CP Kelco in these preliminary results of review for which these reviewed companies did not know their merchandise was destined for the United States. In such instances, we will instruct CBP to liquidate un-reviewed entries at the all-others rate if there is no rate for the intermediate company(ies) involved in the transaction. Further, instead of rescinding the review with respect to CP Kelco, we find it appropriate to complete the review and issue liquidation instruction to CBP concerning entries for CP Kelco following issuance of the final results of review. If we continue to find that CP Kelco had no shipments of subject merchandise in the final results, we will instruct CBP to liquidate any existing entries of merchandise produced by CP Kelco, but exported by other parties at the rate for the intermediate reseller, if available, or at the all-others rate.¹⁷

¹⁶ For a full discussion of this clarification, see Antidumping and Countervailing Duty Proceedings: Assessment of Antidumping Duties, 68 FR 23954 (May 6, 2003).

¹⁷ See, e.g., Magnesium Metal From the Russian Federation: Preliminary Results of Antidumping Duty Administrative Review, 75 FR 26922, 26923 (May 13, 2010), unchanged in Magnesium Metal From the Russian Federation: Final Results of Antidumping Duty Administrative Review, 75 FR 56989 (September 17, 2010).

We intend to issue liquidation instructions to CBP 15 days after publication of the final results of this review. We will instruct CBP to assess antidumping duties on all appropriate entries covered by this review if any importer-specific assessment rate calculated in the final results of this review is above de minimis. We will instruct CBP to liquidate without regard to antidumping duties any entries for which the assessment rate is de minimis.¹⁸ The final results of this review shall be the basis for the assessment of antidumping duties on entries of merchandise covered by the final results of this review and for future deposits of estimated duties, where applicable.¹⁹

¹⁸ See 19 CFR 351.106(c)(2)

¹⁹ See section 751(a)(2)(C) of the Act.

Cash Deposit Requirements

The following cash deposit requirements will be effective upon publication of the final results of this administrative review for all shipments of the subject merchandise entered, or withdrawn from warehouse, for consumption on or after the publication date of the final results of this administrative review, as provided by section 751(a)(2)(C) of the Act: (1) The cash deposit rate for the company listed above will be that established in the final results of this review, except if the rate is less than 0.50 percent and, therefore, de minimis within the meaning of 19 CFR 351.106(c)(1), in which case the cash deposit rate will be zero; (2) for previously reviewed or investigated companies not listed above, the cash deposit rate will continue to be the company-specific rate published for the most recent period; (3) if the exporter is not a firm covered in this review, a prior review, or in the investigation but the manufacturer is, the cash deposit rate will be the rate established for the most recent period for the manufacturer of the merchandise; and (4) the cash deposit rate for all other manufacturers or exporters will continue to be the all-others rate of 14.57 percent, which is the all-others rate established in the investigation.²⁰ These cash deposit requirements, when imposed, shall remain in effect until further notice.

²⁰ See Notice of Antidumping Duty Orders: Purified Carboxymethylcellulose from Finland, Mexico, the Netherlands and Sweden, 70 FR 39734, 39735 (July 11, 2005).

Notification to Importers

This notice also serves as a reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

We are issuing and publishing this notice in accordance with sections 751(a)(1) and 777(i)(1) of the Act.

Dated: August 1, 2013.
Paul Piquado,
Assistant Secretary for Import Administration.

Appendix I—List of Topics Discussed in the Preliminary Decision Memorandum

1. Scope of the Order

2. Preliminary Determination of No Shipments

3. Comparisons to Normal Value

A. Determination of Comparison Method

B. Results of the Differential Pricing Analysis

4. Product Comparisons

5. Date of Sale

6. Export Price

7. Normal Value

A. Home Market Viability

B. Level of Trade

C. Cost of Production

1. Calculation of Cost of Production

2. Test of Comparison Market Sales Prices

3. Results of the Cost of Production Test

D. Calculation of Normal Value Based on Comparison Market Prices

8. Currency Conversion

[FR Doc. 2013-19347 Filed 8-8-13; 8:45 am]

BILLING CODE 3510-DS-P